DEPARTMENT OF COMMERCE

National Oceanic and Atmospheric Administration (NOAA)

Environmental Assessment (EA) for the Proposed Relocation of the Atmospheric Turbulence and Diffusion Division of the Air Resources Laboratory in Oak Ridge, TN

AGENCY: Office of Oceanic and Atmospheric Research (OAR), National Oceanic and Atmospheric Administration (NOAA), U.S. Department of Commerce (DOC).

ACTION: Notice of intent to prepare an EA; request for comments.

SUMMARY: NOAA announces its intention to prepare an EA in accordance with the National Environmental Policy Act of 1969 (42 U.S.C. 4321 et seq.), for the proposed relocation of NOAA/OAR facilities in Oak Ridge, TN.

DATES: Written comments must be received on or before December 5, 2016.

ADDRESSES: Written comments on suggested alternatives and potential impacts should be sent to Barbara Shifflett, Management and Program Analyst, NOAA/ATDD, PO Box 2456, Oak Ridge, TN 37831. Comments may also be submitted via facsimile to 865-220-1733 or by email to Barbara.Shifflett@noaa.gov.

SUPPLEMENTARY INFORMATION: The proposed action would involve relocation of NOAA/OAR offices and laboratories within the Oak Ridge, TN area to a larger, modern facility located in an appropriate research setting. The Atmospheric Turbulence and Diffusion Division (ATDD), located in Oak Ridge, TN, is part of NOAA's Air Resources Laboratory (ARL). Research conducted at this laboratory includes experimental and theoretical research on air quality issues, urban dispersion studies and in-situ testbed development, and land-atmosphere interactions and the interactions with regional water budgets for representative U.S. ecosystems.

The current physical space for ATDD consists of four buildings that together provide office space, laboratory space, staging and assembly and a machine shop. In addition, six shipping/storage containers are used to securely store field equipment and supplies, meteorological instrumentation, and power systems for remote climate stations. The current ATDD facilities are approximately 17,573 square feet which includes office space, auditorium and kitchen space, warehouse and storage space and staging areas. Current space can house up to 36 staff, including full-time employees, visiting scientists and students, and contract employees.

ATDD needs additional space to accommodate offices for staff expansion, visiting scientists and students, as well as space for additional lab work, engineering assembly, sensor calibration and testing, and sensor prototyping and evaluation. NOAA/OAR needs at least 12,500 additional or 30,000 total square feet of space to effectively house personnel and equipment necessary to meet ATDD's mission.

Research programs at ATDD will continue over the next decade and beyond at approximately their current levels, with moderate growth in staffing to accommodate emerging programs associated with water and drought planning, climate testbeds and air-surface exchange research. Partnerships with several universities will continue and new partnerships will be established, with a resulting small influx of students and faculty for short and long-term visits. The need for shop, lab, and storage space for testing and evaluation of new sensor technologies will continue to grow.

Programs are often delayed by having to displace partially completed work from available space to complete a project or repair a system with a more urgent timeline. The existing facility severely limits ATDD's ability to implement a primary NOAA goal of working with private industry, universities, and national and international agencies to create and leverage partnerships for more effective research; we frequently encounter such opportunities, but are limited when offering space to accommodate visitors to work with our existing staff.

ATDD's property has historically been used by scientists as a testbed for many systems prior to their deployment into the field. Given the increase in traffic and commercial development in the local area, the testbed data are suspect with regards to accuracy of measurements and actual reliability.

The purpose of the public scoping process for this EA is to determine relevant issues that will influence the scope of the environmental analysis, including potential alternatives, and the extent to which those issues and impacts will be analyzed in the EA. Federal, state, and local agencies, along with other stakeholders that may be interested in or affected by NOAA's decision on this project are invited to participate in the scoping process and, if eligible, may request or be requested by NOAA to participate as a cooperating agency.

Dated: October 28, 2016.
Jason Donaldson,
Chief Financial Officer, Office of Oceanic and Atmospheric Research, National Oceanic and Atmospheric Administration.

[FR Doc. 2016-26497 Filed 11-2-16; 8:45 am]

BILLING CODE 3510-KD-P